DEPARTMENT OF AGRICULTURE

Agricultural Marketing Service

[Docket # AMS-FV-2006-0199; FV-07-301]

United States Standards for Grades of Mangos

AGENCY: Agricultural Marketing Service, USDA.

ACTION: Notice.

SUMMARY: The Department of Agriculture (USDA) Agricultural Marketing Service (AMS) is soliciting comments on a proposed revision to the voluntary United States Standards for Grades of Mangos. USDA received a request from a member of the industry to revise the definition of “well trimmed.” The change could benefit the fresh mango industry by improving fruit appearance and extending shelf life.

DATES: Comments must be received by April 6, 2007.

ADDRESSES: Interested persons are invited to submit written comments to the Standardization Section, Fresh Products Branch, Fruit and Vegetable Programs, Agricultural Marketing Service, U.S. Department of Agriculture, 1400 Independence Ave., SW., Room 1661 South Building, Stop 0240, Washington, DC 20250-0240; Fax (202) 720-8871, or Internet: http://www.regulations.gov. Comments should make reference to the dates and page number of this issue of the Federal Register and will be made available for public inspection in the above office during regular business hours. The United States Standards for Grades of Mangos are available either through the address cited above or by accessing the AMS, Fresh Products Branch Web site at: http://www.ams.usda.gov/fv/fvstand.htm.

FOR FURTHER INFORMATION CONTACT: Cheri L. Emery, at the above address, telephone number (202) 720-2185, or e-mail address Cheri.Emery@usda.gov.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables that are not requirements of Federal Marketing Orders or U.S. Import Requirements, no longer appear in the Code of Federal Regulations, but are maintained by USDA, AMS, Fruit and Vegetable Programs.

AMS proposed to revise the voluntary United States Standards for Mangos using the procedures that appear in Part 36, Title 7 of the Code of Federal Regulations (7 CFR part 36). The standards were developed February 2006.

Background

AMS received a petition from a grower/packer/importer requesting a revision to the United States Standards for Grades of Mangos. The petitioner requested a revision to the definition of “well trimmed.” The standards currently define “well trimmed” as: “the stem is neatly clipped or broken off at a point not more than ½ inch beyond the point of attachment”. The petitioner requested an increase to the allowable length of the attached stem to 1 inch from the point of attachment. The petitioner stated a change is warranted because a longer stem, up to 1 inch in length, would permit healing of the stem end and reduce the amount of latex that leaks out of the fruit. The petitioner further stated incidences of “sunken stem end” would be reduced significantly by allowing a longer stem. A revision to the definition would read as follows: “Well trimmed” means the stem is neatly clipped or broken off at a point not more than 1 inch beyond the point of attachment.

The official grade of a lot of mangos covered by these standards will be determined by the procedures set forth in the Regulations Governing Inspection, Certification, and Standards of Fresh Fruits, Vegetables and Other Products (7 CFR 51.1 to 51.61).

AMS is soliciting comments on the proposed revision to the United States Standards for Grades of Mangos. This notice provides for a 60-day comment period for interested parties to comment on the requested change to the standards.

Authority: 7 U.S.C. 1621-1627.

Dated: January 30, 2007.
Lloyd C. Day,
Administrator, Agricultural Marketing Service.

[FR Doc. E7-1760 Filed 2-2-07; 8:45 am]

BILLING CODE 3410-02-P